DEPARTMENT OF STATE

[Delegation of Authority No. 471]

Re-Delegation of Authority To Invoke the Law Enforcement Privilege Information Relating To Vetting of Certain Refugee Applicants

By virtue of the authority delegated to the Under Secretary of State for Management by the laws of the United States, as delegated by Department of State Delegation of Authority No. 462, I hereby re-delegate to the Director of Admissions for the Bureau of Population, Refugees, and Migration, to the extent authorized by law, the authority to invoke the law enforcement privilege with respect to information relating to security vetting of refugee applicants to the U.S. Refugee Admissions Program.

This re-delegation of authority does not revoke or otherwise affect any other delegation of authority currently in effect. The authority re-delegated herein may also be exercised, to the extent authorized by law, by the Secretary, the Deputy Secretary, the Under Secretary and Deputy Under Secretary for Management, the Under Secretary for Civilian Security, Democracy, and Human Rights, and the Assistant Secretary for Population, Refugees, and Migration.

This re-delegation is effective upon signature and will be published in the Federal Register.

Dated: June 7, 2019.
Brian J. Bulatao,
Under Secretary of State for Management, Department of State.

[FR Doc. 2019-14454 Filed 7-5-19; 8:45 am]

BILLING CODE 4710-33-P